DEPARTMENT OF TRANSPORTATION

Federal Aviation Administration

14 CFR Part 39

[Docket No. 2000-SW-07-AD; Amendment 39-12044; AD 2000-25-09]

RIN 2120-AA64

Airworthiness Directives; Agusta S.p.A. Model A109E Helicopters

AGENCY: Federal Aviation Administration, DOT.

ACTION: Final rule.

SUMMARY: This amendment supersedes an existing airworthiness directive (AD) for Agusta S.p.A. (Agusta) Model A109E helicopters that currently requires inspecting the exhaust ejector locking system, clamp, and dampers for each engine. The existing AD also requires verifying the torque of the metallic clamps and installing safety wire on the metallic clamps; inspecting and modifying the ejector saddles and the locking metallic clamps; and inspecting the metallic clamps, locking mechanisms, and dampers. This amendment requires modifying the engine exhaust ejectors. This amendment is prompted by the development of a kit to modify the engine exhaust ejectors to provide terminating action from the requirements of the current AD. The actions specified by this AD are intended to prevent loss of the metallic clamp or the engine exhaust ejector, damage to the main or tail rotor system and subsequent loss of control of the helicopter.

DATES: Effective February 2, 2001.

The incorporation by reference of Agusta Technical Bulletin No. 109EP-5, dated December 22, 1999, as listed in the regulations, is approved by the Director of the Federal Register as of February 2, 2001.

The incorporation by reference of Agusta Bollettino Tecnico No. 109EP-3, dated December 22, 1998, listed in the regulations, was previously approved by the Director of the Federal Register as of April 5, 1999 (64 FR 13502, March 19, 1999).

ADDRESSES: The service information referenced in this AD may be obtained from Agusta, 21017 Cascina Costa di Samarate (VA) Italy, Via Giovanni Agusta 520, telephone 39 (0331) 229111, fax 39 (0331) 229605-222595. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Paul Madej, Aviation Safety Engineer, FAA, Rotorcraft Directorate, Rotorcraft Standards Staff, Fort Worth, Texas 76193-0110, telephone (817) 222-5125, fax (817) 222-5961.

SUPPLEMENTARY INFORMATION: A proposal to amend part 39 of the Federal Aviation Regulations (14 CFR part 39) by superseding AD 99-03-10, Amendment 39-11080 (64 FR 13502), which is applicable to Agusta Model A109E helicopters, was published in the Federal Register on September 22, 2000 (65 FR 57298). That action proposed to require modifying the engine exhaust ejectors, P/N 109-0601-51, by installing a kit, P/N 109-0822-94.

Interested persons have been afforded an opportunity to participate in the making of this amendment. No comments were received on the proposal or the FAA's determination of the cost to the public. The FAA has determined that air safety and the public interest require the adoption of the rule as proposed.

The FAA estimates that 13 helicopters of U.S. registry will be affected by this AD, that it will take approximately 12 work hours per helicopter to accomplish the required actions, and that the average labor rate is $60 per work hour. The manufacturer has stated that 12 work hours labor costs at $40 per hour and the kit will be provided under warranty if requested prior to December 31, 2000. Based on these figures, the total cost impact of the AD on U.S. operators is estimated to be $3,120, assuming that all operators take full advantage of the warranty coverage stated by the manufacturer.

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11080 (64 FR 13502, March 19, 1999), and by adding a new airworthiness directive (AD), Amendment 39-12044, to read as follows:

2000-25-09 Agusta S.p.A.: Amendment 39-12044. Docket No. 2000-SW-07-AD. Supersedes AD 99-03-10, Amendment 39-11080, Docket No. 99-SW-10-AD.

Applicability: Model A109E helicopters, up to and including serial numbers 11057, excluding serial numbers 11001, 11005, 11047, 11049, 11055 and 11056, with engine exhaust ejectors, part number 109-0601-51, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously. To prevent loss of the metallic clamp or the engine exhaust ejector, damage to the main or tail rotor system, and subsequent loss of control of the helicopter, accomplish the following:

(a) Prior to further flight, in accordance with Part I of the Compliance Instructions in Agusta Bollettino Tecnico No. 109EP-3, dated December 22, 1998 (Technical Bulletin), inspect the exhaust ejector to ejector saddle locking system, the dampers at the bottom of the ejector saddle, and the torque of the metallic clamp, and install safety wire on the metallic clamp. If any damage is found as a result of the inspection, accomplish Part II of the Compliance Instructions in the Technical Bulletin prior to further flight.

(b) Within the next 10 hours time-in-service (TIS), inspect the dampers and metallic clamps, and reposition and modify the ejector saddle and the locking metallic clamp in accordance with Part II of the Compliance Instructions in the Technical Bulletin.

(c) Thereafter, at intervals not to exceed 25 hours TIS, inspect the metallic clamp, locking mechanism, and dampers in accordance with Part III of the Compliance Instructions in the Technical Bulletin.

(d) Before further flight after December 31, 2000, modify the engine exhaust ejectors, part number (P/N) 109-0601-51, by installing a kit, P/N 109-0822-94, in accordance with the Compliance Instructions in Agusta Technical Bulletin No. 109EP-5, dated December 22, 1999.

(e) Installing a kit, P/N 109-0822-94, is terminating action for the requirements of this AD.

(f) An alternative method of compliance or adjustment of the compliance time that provides an acceptable level of safety may be used if approved by the Manager, Regulations Group, Rotorcraft Directorate, FAA. Operators shall submit their requests through a FAA Principal Maintenance Inspector, who may concur or comment and then send it to the Manager, Regulations Group.

Note 2: Information concerning the existence of approved alternative methods of compliance with this AD, if any, may be obtained from the Regulations Group.

(g) Special flight permits may be issued in accordance with §§ 21.197 and 21.199 of the Federal Aviation Regulations (14 CFR 21.197 and 21.199) to operate the helicopter to a location where the requirements of this AD can be accomplished.

(h) The inspections shall be done in accordance with Parts I, II, and III of the Compliance Instructions in Agusta Bollettino Tecnico No. 109EP-3, dated December 22, 1998. The incorporation by reference of that document was approved previously by the Director of the Federal Register, in accordance with 5 U.S.C. 552(a) and 1 CFR part 51, as of April 5, 1999 (64 FR 13502, March 19, 1999). The modification shall be done in accordance with the Compliance Instructions in Agusta Technical Bulletin No. 109EP-5, dated December 22, 1999. The incorporation by reference of that document was approved by the Director of the Federal Register in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the FAA, Office of the Regional Counsel, Southwest Region, 2601 Meacham Blvd., Room 663, Fort Worth, Texas; or at the Office of the Federal Register, 800 North Capitol Street, NW., suite 700, Washington, DC.

(i) This amendment becomes effective on February 2, 2001.

Note 3: The subject of this AD is addressed in Ente Nazionale per l'Aviazione Civile (Italy) AD No. 2000-001, dated January 4, 2000, and 2000-088, dated February 10, 2000.

Issued in Fort Worth, Texas, on December 6, 2000.
Mark R. Schilling,
Acting Manager, Rotorcraft Directorate, Aircraft Certification Service.

[FR Doc. 00-32551 Filed 12-28-00; 8:45 am]

BILLING CODE 4910-13-U